COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products previously provided by such agency.

DATES: Comments Must be Received on or Before: 4/27/2015.

ADDRESSES: Committee for Purchase From People Who Are Blind or Severely Disabled, 1401 S. Clark Street, Suite 715, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

PRODUCT NAMEs/NSNs:

Neck Lanyard, Cord Style, J-Hook, Black, 36″ x .25″/8455-00-NIB-0040

Neck Lanyard, Strap Style, J-Hook, Black, 36″ x .75″/8455-00-NIB-0041

Neck Lanyard, Strap Style, J-Hook, Tan, 36″ x .75″/8455-00-NIB-0042

Neck Lanyard, Cord Style, J-Hook, Tan, 36″ x .25″/8455-00-NIB-0043

Clip Adapter, Strap, 100 PK/8455-00-NIB-0046

Holder, Identification, Smart Card, RFID Shielded, Opaque, Bulk PK/8455-00-NIB-0047

MANDATORY FOR PURCHASE BY: Total Government Requirement

MANDATORY SOURCE OF SUPPLY: West Texas Lighthouse for the Blind, San Angelo, TX

CONTRACTING ACTIVITY: General Services Administration, Fort Worth, TX

DISTRIBUTION: A-List

Service

SERVICE TYPE: Custodial and Related Service

SERVICE IS MANDATORY FOR: GSA PBS Region 4, Federal Building & U.S. Courthouse, 100 West Troy Street, Dothan, AL

G. W. Andrews Federal Building & U.S. Courthouse, 701 Avenue A, Opelika, AL

Federal Building & U.S. Courthouse, 908 Alabama Street, Selma, AL

MANDATORY SOURCE OF SUPPLY: Goodwill Industries of Central Alabama, Inc., Montgomery, AL

CONTRACTING ACTIVITY: GSA, Public Buildings Service, Acquisition Division/Services Branch, Atlanta, GA

Deletions

The following products are proposed for deletion from the Procurement List:

Products

PRODUCT NAMEs/NSNs:

Tray, Desk, Plastic, Side Loading, Stackable, Legal, Beige/7520-01-094-4310

Tray, Desk, Plastic/7520-01-466-0483

MANDATORY SOURCE OF SUPPLY: LC Industries, Inc., Durham, NC

CONTRACTING ACTIVITY: General Services Administration, New York, NY

Barry S. Lineback,
Director, Business Operations.

[FR Doc. 2015-07047 Filed 3-26-15; 8:45 am]

BILLING CODE 6353-01-P